DEPARTMENT OF THE INTERIOR

Bureau of Land Management

[NV-930-1430-ES; N 75545]

Notice of Realty Action; Noncompetitive Sale of Public Land in Douglas County, NV

AGENCY: Bureau of Land Management, Interior.

ACTION: Notice.

SUMMARY: Sale of a small parcel of public land will resolve an inadvertent unauthorized occupancy of the public land. The sale will be made under the provisions of the Federal Land Policy and Management Act. This notice will segregate the public land from other forms of appropriation.

EFFECTIVE DATE: The land will be segregated upon publication of this notice in the Federal Register.

FOR FURTHER INFORMATION CONTACT: Charles J. Kihm, Bureau of Land Management, Carson City Field Office, 5665 Morgan Mill Road, Carson City, Nevada 89701, 775-885-6000.

SUPPLEMENTARY INFORMATION: The following described public land has been examined and determined to be suitable for transfer out of Federal ownership by direct sale under the authority of Sections 203 and 209 of the Federal Land Policy and Management Act of 1976, as amended (90 Stat. 2750; 43 U.S.C. 1713 and 90 Stat. 2757; 43 U.S.C. 1719), at the appraised fair market value:

Mount Diablo Meridian, Nevada

T. 12 N., R. 20 E.,

Sec. 25, N½N½NW¼SE¼NE¼ (within).

Containing 0.137 acres, more or less.

The parcel will not be offered for sale until at least 60 days after publication of this notice in the Federal Register.

The above-described land is hereby segregated from appropriation under the public land laws, including the mining laws, but not from sale under the above-cited statute, for 270 days or until title transfer is completed or the segregation is terminated by publication in the Federal Register, whichever occurs first.

A direct sale is necessary to protect existing equities in the land and resolve inadvertent unauthorized use and occupancy of the land. The sale is consistent with the North Douglas County Specific Plan Amendment (June 2001) and the public interest will be served by offering this parcel for sale.

The terms, conditions, and reservations applicable to the sale are as follows:

1. The mineral interests being offered for conveyance have no known mineral value. Agreement to purchase the parcel will constitute an application for conveyance of the mineral estate, in accordance with Section 209 of the Federal Land Policy and Management Act. The designated buyer must include with their purchase payment a nonrefundable $50.00 filing fee for the conveyance of the mineral estate.

2. Rights-of-way for ditches and canals will be reserved to the United States under 43 U.S.C. 945.

For a period of 45 days from the date of publication of this notice in the Federal Register, interested parties may submit comments to the Carson City Field Office. Any adverse comments will be reviewed by the Carson City Field Office Manager, who may sustain, vacate, or modify this realty action. In the absence of any adverse comments, this realty action will become the final determination of the Department of the Interior.

Dated: March 12, 2002.
Charles P. Pope,
Assistant Manager, Non-Renewable Resources, Carson City Field Office.

[FR Doc. 02-8893 Filed 4-11-02; 8:45 am]

BILLING CODE 4310-HC-P